DEPARTMENT OF ENERGY

Energy Information Administration

Agency informaiton collection activities: proposed collection; comment request

AGENCY: Energy Information Administration (EIA), Department of Energy (DOE).

ACTION: Agency information collection activities: proposed collection; comment request.

SUMMARY: The EIA is soliciting comments on the proposed revision and three-year extension under section 3507(h)(1) of the Paperwork Reduction Act of 1995 of the surveys in the Natural Gas Data Collection Program Package. The surveys covered by this request for comment include Form EIA-176, “Annual Report of Natural and Supplemental Gas Supply and Disposition;” EIA-191, “Monthly Underground Gas Storage Report,” EIA-857, “Monthly Report of Natural Gas Purchases and Deliveries to Consumers;” EIA-895, “Monthly Quantity and Value of Natural Gas Production Report;” EIA-910, “Monthly Natural Gas Marketer Survey;” and EIA-912, “Weekly Underground Natural Gas Storage Report.”

DATES: Comments must be filed by April 26, 2002. If you anticipate difficulty in submitting comments within that period, contact the person listed below as soon as possible.

ADDRESSES: Send comments to Sylvia Norris, Natural Gas Division, Office of Oil and Gas, Energy Information Administration. To ensure receipt of the comments by the due date, submission by fax (202-586-4420) or e-mail (sylvia.norris@eia.doe.gov) is recommended. The mailing address is Sylvia Norris, Energy Information Administration, U.S. Department of Energy, P.O. Box 8279, Silver Spring, MD 20907. Also, Ms. Norris may be contacted by telephone at 202-586-6106.

FOR FURTHER INFORMATION CONTACT: Requests for additional information or copies of any forms and instructions should be directed to Ms. Norris at the address listed above.

Also, the draft forms and instructions are available on the EIA Web site at http://www.eia.doe.gov/oil_gas/fwd/proposed.html.

SUPPLEMENTARY INFORMATION:

I. Background

II. Current Actions

III. Request for Comments

I. Background

The Federal Energy Administration Act of 1974 (Pub. L. 93-275, 15 U.S.C. 761 et seq.) and the DOE Organization Act (Pub. L. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer-term domestic demands.

The EIA, as part of its effort to comply with the Paperwork Reduction Act of 1995 (Pub. L. 104-13, 44 U.S.C. Chapter 35), provides the general public and other Federal agencies with opportunities to comment on collections of energy information conducted by or in conjunction with the EIA. Any comments received help the EIA to prepare data requests that maximize the utility of the information collected, and to assess the impact of collection requirements on the public. Also, the EIA will later seek approval by the Office of Management and Budget (OMB) under section 3507(h)(1) of the Paperwork Reduction Act of 1995.

The natural gas surveys included in the Natural Gas Data Collection Program Package collect information on natural gas production, underground storage, transmission, distribution, consumption by sector, and wellhead and consumer prices. This information is used to support public policy analyses of the natural gas industry and is posted to the EIA Web site (www.eia.doe.gov) in various EIA products, including the Natural Gas Weekly Update, Natural Gas Monthly, Natural Gas Annual, Monthly Energy Review, and Annual Energy Review. Respondents to natural gas surveys include State agencies, underground storage operators, transporters, marketers, and distributors. The forms are discussed in detail below.

EIA-176, “Annual Report of Natural and Supplemental Gas Supply and Disposition”

The Form EIA-176 provides EIA with the major elements of information required in conjunction with data collected in other EIA surveys to develop annual gas supply and disposition balances and relevant cost, price, and related information at the State level.

The information collected on the Form EIA-176 is needed and used for the following purposes:

(1) To develop and make available to Congress, the States, and the public an accurate quantified overview of the supply of natural and supplemental gas available to each of the States from all sources both internal and external to the State, and the manner in which such supply was utilized or otherwise disposed of,

(2) To determine the quantity of natural and supplemental gas consumed within each of the States by market sector, the average sales prices for such gas, and the changes in consumption and price patterns over time, and

(3) For dissemination in various EIA data products including the Natural Gas Annual (NGA), Natural Gas Monthly (NGM), Annual Energy Review (AER), Annual Energy Outlook (AEO), Short-Term Energy Outlook (STEO), Winter Fuels Report, and Monthly Energy Review (MER), which are widely used by both public and private organizations and individuals.

EIA-191, “Monthly Underground Gas Storage Report”

Form EIA-191 requests monthly data on the location, capacity, and operations of all active underground natural gas storage fields. Storage data are a critical link in understanding the deliverability of the natural gas system of the United States and overall system operations.

The information collected on Form EIA-191 will be used in the following ways:

(1) To provide State-level data on underground natural gas storage with respect to injections, withdrawals, inventories, type of storage facility, location, and capacity. These data will be made available to EIA's NGM, NGA, MER, and AER. Monthly data collection also provides reliable baseline data on storage operations necessary for analyses, modeling, and comparison with normal industry operations in cases of severe weather, natural disaster, or other extreme circumstances,

(2) To provide data on underground natural gas storage inventories for EIA's AEO and STEO, and

(3) To provide data on all aspects of underground natural gas storage to enable EIA and other elements of DOE to identify and assess the supplies of gas in storage by geographic location.

EIA-857, “Monthly Report of Natural Gas Purchases and Deliveries to Consumers”

Monthly State-level data collected on the Form EIA-857 consist of average price of natural gas purchased by local distribution companies at their city gates, consumption of natural gas by sector, and average sales price by sector. These data are necessary to provide timely information needed to measure the combined impact of government, industry, and consumer actions; geographic location; climatic conditions; and other factors on the natural gas industry and natural gas consumers.

The data collected on the Form EIA-857 are used to develop information for publication in EIA's STEO, NGM, Winter Fuels Report, and MER, and to make the data available to Congress, State governments, industry, and the public.

EIA-895, “Monthly Quantity and Value of Natural Gas Production Report”

Form EIA-895 collects monthly information from the appropriate State agencies concerning natural gas production. It provides details on gross withdrawals from gas and oil wells and from coalbed methane wells, volumes vented and flared, volumes of nonhydrocarbon gases removed, gas used as fuel on leases, and the amount of natural gas available for market. These data are routinely collected by the States for taxation, conservation, or statistical purposes. The aggregate data are published in the NGM, NGA, MER, Winter Fuels Report, and AER.

EIA-910, “Monthly Natural Gas Marketer Survey”

Form EIA-910 collects monthly information for developing accurate estimates of State-level prices paid by residential and commercial consumers of natural gas. Data from the EIA-910 are combined with data from other EIA natural gas surveys to produce more complete and accurate price estimates than are currently available from data based on the EIA-857. The data are incorporated into EIA's monthly publications, used by modelers and analysts, and used to answer questions from policymakers, Congress, and the general public.

EIA-912, “Weekly Underground Natural Gas Storage Report”

EIA has developed a survey instrument and report format to provide a weekly data series on underground storage of natural gas similar to that currently published by the American Gas Association. AGA has announced that it will discontinue its data collection by May 1, 2002. The EIA-912 data collection responds to requests to provide weekly measures of natural gas underground storage operations. EIA has received emergency clearance for the operation of the new series and will release data from the survey on May 9, 2002. However, EIA must obtain a standard (3-year) clearance for the survey and will include a request for a standard (non-emergency) clearance in its Natural Gas Data Collection Program Package to be sent to OMB for approval in September 2002.

EIA will use the data to prepare analytical products assessing storage operations in the three AGA regions and their impact on supplies available for the winter heating season and in more detailed analyses correlating demand, heating-degree-days, and prior inventory levels. Such correlations will help EIA to understand the impact of storage operations on natural gas supply and demand.

II. Current Actions

EIA will be requesting a three-year extension of the collection authority for each of the above-referenced surveys. In addition, EIA proposes the changes outlined below that affect the EIA-176, EIA-191, EIA-857, and EIA-895. The request for extension of collection authority will include two surveys, Forms EIA-910 and EIA-912 cited above, which received approvals for implementation in separate clearance requests to OMB.

Form EIA-176, “Annual Report of Natural and Supplemental Gas Supply and Disposition”

EIA is proposing significant revisions to the Form EIA-176. Those revisions included elimination of the “Company Activities” and “Continuations” sections of the Form. Numerous line items have been eliminated or combined to simplify reporting requirements and reduce respondent burden. One new reporting item has been added. The line item will collect volume of liquefied natural gas (LNG) in inventory as of December 31 of the report year. The Form has also been extensively reformatted and the instructions have been simplified and reviewed for increased clarity.

Form EIA-191, “Monthly Underground Gas Storage Report”

The Form EIA-191 has been reformatted and several data elements have been eliminated in order to reduce respondent burden. The instructions have been reviewed and edited to provide greater clarity and simplicity.

Form EIA-857, “Monthly Report of Natural Gas Purchases and Deliveries to Consumers”

No significant changes are proposed for the Form EIA-857, although EIA did add items on total gas deliveries for reporting in 2002, and is interested in receiving comments about that revision. The instructions have been redrafted to provide simplicity and clarity.

Form EIA-895, “Monthly Quantity and Value of Natural Gas Production Report”

EIA is adding the word “Production” to the survey title for clarity. The proposed Form EIA-895 will include an additional category for reporting monthly production of natural gas from coalbed wells.

Form EIA-910, “Monthly Natural Gas Marketer Survey”

EIA is requesting extended clearance of the currently approved EIA-910 in order to align the expiration dates for all forms in the Natural Gas Data Collection Program Package. No changes are proposed for either the survey form or instructions. EIA is requesting comments on whether the sample population (currently five States) covered by the EIA-910 should be expanded.

Form EIA-912, “Weekly Underground Natural Gas Storage Report''

The EIA-912 was recently approved to operate for six months under an emergency clearance under section 3507(j)(1) of the Paperwork Reduction Act of 1995. EIA will request further clearance to conduct the survey until the end of 2002. In this collection request, EIA will ask for approval to conduct the survey for three years beginning January 2003. The emergency clearances and continued approval are intended to continue the weekly data series (produced by the American Gas Association until May 2002) without interruption. Including the EIA-912 in the Fall 2002 clearance proposal will keep all Forms in the Natural Gas Data Collection Program Package on the same schedule. EIA is also requesting comments on the timing of dissemination of the information collected on Form EIA-912. Copies of the draft forms and instructions are available on the EIA Web site http://www.eia.doe.gov/oil_gas/fwd/proposed.html.

III. Request for Comments

Prospective respondents and other interested parties should comment on the actions discussed in item II. The following guidelines are provided to assist in the preparation of comments. Please indicate to which form(s) your comments apply.

General Issues

A. Is the proposed collection of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

As a Potential Respondent to the Request for Information

A. Are the instructions and definitions clear and sufficient? If not, which instructions need clarification?

B. Can the information be submitted by the due date?

C. Public reporting burden for the surveys included in the Natural Gas Data Collection Program Package is shown below as an average hour(s) per response. The estimated burden includes the total time necessary to provide the requested information. In your opinion, how accurate is this estimate for the proposed forms?

(1) Form EIA-176, “Annual Report of Natural and Supplemental Gas Supply and Disposition”; 12 hours per response.

(2) Form EIA-191, “Monthly Underground Gas Storage Report”; 3.6 hours per response.

(3) Form EIA-857, “Monthly Report of Natural Gas Purchases and Deliveries to Consumers”; 3.5 hours per response.

(4) Form EIA-895, “Monthly Quantity and Value of Natural Gas Production Report”; .5 hour per response.

(5) Form EIA-910, “Monthly Natural Gas Marketer Survey”; 2 hours per response.

(6) Form EIA-912, “Weekly Underground Natural Gas Storage Report”; .5 hour per response.

D. The agency estimates that the only cost to a respondent is for the time it will take to complete the collection. Will a respondent incur any start-up costs for reporting, or any recurring annual costs for operation, maintenance, and purchase of services associated with the information collection?

E. What additional actions could be taken to minimize the burden of this collection of information? Such actions may involve the use of automated, electronic, mechanical, or other technological collection techniques or other forms of information technology.

F. Does any other Federal, State, or local agency collect similar information? If so, specify the agency, the data element(s), and the methods of collection.

As a Potential User of the Information to be Collected

A. Is the information useful at the levels of detail to be collected?

B. For what purpose(s) would the information be used? Be specific.

C. Are there alternate sources for the information and are they useful? If so, what are their weaknesses and/or strengths?

Comments submitted in response to this notice will be summarized and/or included in the request for OMB approval of the form. They also will become a matter of public record.

Authority: Sec. 3507(h)(1) of the Paperwork Reduction Act of 1995 (Pub. L. 104-13, 44 U.S.C. Chapter 35).

Issued in Washington, DC, February 19, 2002.
Jay Casselberry,
Agency Clearance Officer, Statistics and Methods Group, Energy Information Administration.

[FR Doc. 02-4392 Filed 2-22-02; 8:45 am]

BILLING CODE 6450-01-P